FEDERAL MARITIME COMMISSION

Ocean Transportation Intermediary License; Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 011988N.

Name: All World Services, Inc.

Address: 8384 NW 30th Terrace, Miami, FL 33122.

Date Revoked: May 18, 2005.

Reason: Failed to maintain a valid bond.

License Number: 015131F.

Name: Formosa International Freight Forwarder, Inc.

Address: 20 West Lincoln Avenue, Suite 302, Valley Stream, NY 11580.

Date Revoked: May 15, 2005.

Reason: Failed to maintain a valid bond.

License Number: 018936N.

Name: I-Dream S&A, Inc.

Address: 460 E. Carson Plaza Drive, Suite 220, Carson, CA 90746.

Date Revoked: May 16, 2005.

Reason: Surrendered license voluntarily.

License Number: 013482N.

Name: J & N Transportation.

Address: 7272 Cherokee Circle, Buena Park, CA 90620.

Date Revoked: May 18, 2005.

Reason: Failed to maintain a valid bond.

License Number: 012361N.

Name: North American Van Lines, Inc.

Address: 5001 U.S. Highway 30 West, P.O. Box 988, Fort Wayne, IN 46818.

Date Revoked: May 4, 2005.

Reason: Failed to maintain a valid bond.

License Number: 014411NF.

Name: Rocky Mountain Express Corp. dba RMX Global Logistics.

Address: P.O. Box 4209, Evergreen, CO 80437-4209.

Date Revoked: March 3, 2005.

Reason: Surrendered license voluntarily.

Sandra L. Kusumoto,
Director, Bureau of Certification and Licensing.

[FR Doc. 05-11400 Filed 6-7-05; 8:45 am]

BILLING CODE 6730-01-P